DEPARTMENT OF HEALTH AND HUMAN SERVICES

Health Resources and Services Administration

Agency Information Collection Activities: Proposed Collection: Public Comment Request; Information Collection Request Title: Rural Health Network Development Program Performance Improvement Measurement System, OMB No. 0906-0010—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than September 18, 2023.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Rural Health Network Development Program Performance Improvement Measurement System, OMB No. 0906-0010—Revision.

Abstract: The Rural Health Network Development (RHND) program is authorized under section 330A(f) of the Public Health Service Act (42 U.S.C. 254c(f)). The purpose of this program is to support integrated health care networks that collaborate to achieve efficiencies; expand access to, coordinate, and improve the quality of basic health care services and associated health outcomes; and strengthen the rural health care system as a whole. The program supports networks as they address gaps in service, enhance systems of care, and expand capacity of the local health care system.

RHND-funded programs promote population health management and the transition towards value-based care through diverse network participants that includes traditional and non-traditional network partners. Evidence of program impact demonstrated by outcome data and program sustainability are integral components of the program. This is a 4-year competitive program for networks composed of at least three participants that are existing health care providers. At least 66 percent of network participants must be located in a HRSA-designated rural area.

HRSA currently collects information about RHND awards using an OMB-approved set of performance measures and seeks to revise that approved collection. The proposed revisions are being implemented to better gather award recipient data in response to previously accumulated award recipient feedback, peer-reviewed research, and information gathered from the previously approved RHND measures.

Need and Proposed Use of the Information: This program needs measures that will enable HRSA to provide aggregate program data required by Congress under the Government Performance and Results Act of 1993. These measures cover the principal topic areas of interest to HRSA, including (a) access to care, (b) population demographics, (c) staffing, (d) consortium/network, (e) sustainability, and (f) project specific domains. All measures will evaluate HRSA's progress toward achieving its goals.

The proposed changes include additional components under questions surrounding the network's benefits and funding strategies, as well as the types of participant organizations. Questions surrounding Health Information Technology and Telehealth have been modified to reflect an updated telehealth definition based on renewed knowledge on the use of both Health Information Technology and Telehealth, and to improve understanding of how these important technologies are affecting HRSA award recipients. The Demographics and Services section now includes a question requesting grantees to identify which counties they have served during the project. Finally, revised National Quality Forum and Centers for Medicare & Medicaid Services measures were included to allow uniform collection efforts throughout the HRSA Federal Office of Rural Health Policy. The total number of responses has remained at 44 since the previous ICR. The new RHND grant cycle maintained the same number of award recipients and number of respondents.

Likely Respondents: Respondents will be award recipients of the Rural Health Network Development Program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Performance Improvement and Measurement System Database | 44 | 1 | 44 | 6 | 264
Total | 44 | 1 | 44 | 6 | 264

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-15400 Filed 7-19-23; 8:45 am]

BILLING CODE 4165-15-P